DEPARTMENT OF EDUCATION

34 CFR Part 222

RIN 1810-AB11

Impact Aid Programs; Corrections

AGENCY: Office of Elementary and Secondary Education, Department of Education.

ACTION: Final regulations; correction.

SUMMARY: The Department of Education published final regulations in the Federal Register on April 28, 2011 (76 FR 23712) to amend the regulations governing the Impact Aid Discretionary Construction program, authorized under section 8007(b) of the Elementary and Secondary Education Act of 1965, as amended. That document inadvertently included the incorrect RIN number for the regulatory action. This document corrects the RIN number for that regulatory action.

FOR FURTHER INFORMATION CONTACT: Kristen Walls-Rivas, Impact Aid Program, U.S. Department of Education, 400 Maryland Avenue, SW., Washington, DC 20202. Telephone: (202) 260-1357 or via e-mail: Kristen.Walls-Rivas@ed.gov.

If you use a telecommunications device for the deaf (TDD), call the Federal Relay Service (FRS) at 1-800-877-8339.

Individuals with disabilities can obtain this document in an alternative format (e.g., braille, large print, audiotape, or computer diskette) on request to the contact person listed under FOR FURTHER INFORMATION CONTACT.

SUPPLEMENTARY INFORMATION: This document corrects a technical error included in a document announcing the final Impact Aid Discretionary Construction program regulations that the Department published in the Federal Register on April 28, 2011 (76 FR 23712). Specifically, the RIN number provided on the first page of the April 28, 2011 (76 FR 23712) document is changed to 1810-AB11, which is the correct RIN number for the final regulations published on April 28, 2011 (76 FR 23712).

Electronic Access to This Document: The official version of this document is the document published in the Federal Register. Free Internet access to the official edition of the Federal Register and the Code of Federal Regulations is available via the Federal Digital System at: http://www.gpo.gov/fdsys. At this site you can view this document, as well as all other documents of this Department published in the Federal Register, in text or Adobe Portable Document Format (PDF). To use PDF you must have Adobe Acrobat Reader, which is available free at the site.

You may also access documents of the Department published in the Federal Register by using the article search feature at: http://www.federalregister.gov. Specifically, through the advanced search feature at this site, you can limit your search to documents published by the Department.

List of Subjects in 34 CFR Part 222

Education, Grant programs—education, Application procedures, Construction programs.

Dated: May 26, 2011.
Thelma Meléndez de Santa Ana,
Assistant Secretary for Elementary and Secondary Education.

[FR Doc. 2011-13590 Filed 6-1-11; 8:45 am]

BILLING CODE 4000-01-P